DEPARTMENT OF AGRICULTURE

Forest Service

Southeast Washington Resource Advisory Committee

AGENCY: Forest Service, USDA.

ACTION: Notice of meeting.

SUMMARY: The Southeast Washington Resource Advisory Committee (RAC) will meet in Pomeroy, Washington. The committee is authorized under the Secure Rural Schools and Community Self-Determination Act (the Act) and operates in compliance with the Federal Advisory Committee Act. The purpose of the committee is to improve collaborative relationships and to provide advice and recommendations to the Forest Service concerning projects and funding consistent with Title II of the Act.

DATES: The meeting will be held on May 22, 2019, at 6 p.m.

All RAC meetings are subject to cancellation. For status of meeting prior to attendance, please contact the person listed under For Further Information Contact.

ADDRESSES: The meeting will be held at the Pomeroy Ranger District Office, 71 West Main Street, Pomeroy, Washington.

Written comments may be submitted as described under Supplementary Information. All comments, including names and addresses when provided, are placed in the record and are available for public inspection and copying. The public may inspect comments received at Pomeroy Ranger District, 71 West Main Street, Pomeroy, Washington. Please call ahead at 509-843-4620 to facilitate entry into the building.

FOR FURTHER INFORMATION CONTACT: Monte Fujishin, RAC Designated Federal Official, USDA Umatilla National Forest, Pomeroy Ranger District, 71 West Main Street, Pomeroy, Washington 99347, by phone at 509-843-4620; or by email at mfujishin@fs.fed.us.

Individuals who use telecommunication devices for the deaf (TDD) may call the Idaho Washington Relay Service at 1-800-377-3529, 24 hours a day, 365 days a year, Mountain Statndard Time. Please make requests in advance for sign language interpreting, assistive listening devices or other reasonable accommodation for access to the facility or proceedings by contacting the person listed above.

SUPPLEMENTARY INFORMATION: The purpose of the meeting is to:

(1) Review past projects and progress of continuing projects,

(2) Discuss and select proposed projects and participants, and

(3) Discuss public comments.

The meeting is open to the public. The agenda will include time for people to make oral statements of three minutes or less. Individuals wishing to make an oral statement should request in writing by May 17, 2019, to be scheduled on the agenda. Anyone who would like to bring related matters to the attention of the committee may file written statements with the committee staff before or after the meeting. Written comments and requests for time for oral comments must be sent to Monte Fujishin, RAC Designated Federal Official, USDA Umatilla National Forest, Pomeroy Ranger District, 71 West Main Street, Pomeroy, WA 99347; by email to mfujishin@fs.fed.us, or via facsimile to 509-843-4621.

Meeting Accommodations: If you are a person requiring reasonable accommodation, please make requests in advance for sign language interpreting, assistive listening devices, or other reasonable accommodation, For access to the facility or proceedings, please contact the person listed in the section titled For Further Information Contact. All reasonable accommodation requests are managed on a case by case basis.

Dated: April 16, 2019.
Allen Rowley,
Acting Associate Deputy Chief, National Forest System.

[FR Doc. 2019-09094 Filed 5-2-19; 8:45 am]

BILLING CODE 3411-15-P